DEPARTMENT OF TRANSPORTATION

Coast Guard

[USCG-2001-9037]

National Offshore Safety Advisory Committee

AGENCY: Coast Guard, DOT.

ACTION: Notice of meetings.

SUMMARY: The National Offshore Safety Advisory Committee (NOSAC) and its Subcommittee on Deepwater Activities will meet to discuss various issues relating to offshore safety. Both meetings will be open to the public.

DATES: NOSAC will meet on Thursday, April 19, 2001, from 9:00 a.m. to 3:00 p.m. The Subcommittee on Deepwater Activities will meet on Wednesday, April 18, 2001, from 1:00 pm to 3:00 pm. These meetings may close early if all business is finished. Written material and requests to make oral presentations should reach the Coast Guard on or before April 5, 2001. Requests to have a copy of your material distributed to each member of the committee should reach the Coast Guard on or before April 5, 2001.

ADDRESSES: NOSAC will meet in rooms 3200-3204, of the NASSIF Building, 400 7th Street, SW., Washington, DC. The Subcommittee on Deepwater Activities will meet in room 5303 of the Coast Guard Headquarters Bldg, 2100 Second Street, SW., Washington, DC. Send written material and requests to make oral presentations to Captain P. A. Richardson, Commandant (G-MSO), U.S. Coast Guard Headquarters, 2100 Second Street SW., Washington, DC 20593-0001. This notice is available on the Internet at http://dms.dot.gov.

FOR FURTHER INFORMATION CONTACT: Captain P.A. Richardson, Executive Director of NOSAC, or Mr. Jim Magill, Assistant to the Executive Director, telephone 202-267-0214, fax 202-267-4570.

SUPPLEMENTARY INFORMATION: Notice of these meetings is given under the Federal Advisory Committee Act, 5 U.S.C. App. 2.

Agenda of Meetings

National Offshore Safety Advisory Committee. The agenda includes the following:

(1) Report on issues concerning the International Maritime Organization and the International Organization of Standardization.

(2) Report from the Prevention Through People Subcommittee on Adequacy of “12-hour Rule.”

(3) Report from Task Force on development and implementation of STCW Convention for OSVs.

(4) Status report from Incident Reporting Subcommittee.

(5) Progress report from the Subcommittee on Pipeline-Free Anchorages.

(6) Progress report from Subcommittee on Deepwater Activities.

(7) Status reports on revision of 33 CFR chapter I, subchapter N, Outer Continental Shelf Regulations.

(8) Report on the USCG/MMS Memorandum of Understanding.

(9) Presentation by U.S. Navy on their new Water Fog Fixed Fire Extinguishing System.

Subcommittee on Deepwater Activities. The agenda includes the following:

(1) Review and discuss previous work.

(2) Search & Rescue of personnel from deepwater facilities.

Procedural

Both meetings are open to the public. Please note that the meetings may close early if all business is finished. At the Chair's discretion, members of the public may make oral presentations during the meetings. If you would like to make an oral presentation at a meeting, please notify the Executive Director no later than April 5, 2001. Written material for distribution at a meeting should reach the Coast Guard no later than April 5, 2001. If you would like a copy of your material distributed to each member of the committee or subcommittee in advance of the meeting, please submit 25 copies to the Executive Director no later than April 5, 2001.

Information on Services for Individuals With Disabilities

For information on facilities or services for individuals with disabilities or to request special assistance at the meetings, contact the Executive Director as soon as possible.

Dated: February 20, 2001.
Joseph J. Angelo,
Director of Standards, Marine Safety and Environmental Protection.

[FR Doc. 01-7076 Filed 3-21-01; 8:45 am]

BILLING CODE 4910-15-P